DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on September 12, 2003. No comments were received.

DATES: Comments must be submitted on or before December 29, 2003.

FOR FURTHER INFORMATION CONTACT: Keith Lesnick, Maritime Administration (MAR-830), 400 7th Street, SW., Washington, DC 20590. Telephone: (202) 366-1624; Fax: (202) 366-6988; or e-mail: keith.lesnick@marad.dot.gov. Copies of this collection also can be obtained from that office.

SUPPLEMENTARY INFORMATION: Maritime Administration (MARAD).

Title: Port Facility Conveyance Information.

OMB Control Number: 2133-0524.

Type of Request: Extension of currently approved collection.

Affected Public: Eligible port entities.

Forms: None.

Abstract: Pub. L. 103-160, which is included in 40 U.S.C. 554 authorizes the Department of Transportation to convey to public entities surplus Federal property needed for the development or operation of a port facility. The information collection will allow MARAD to approve the conveyance of property and administer the port facility conveyance program. The collection is necessary for MARAD to determine whether the community is committed to the redevelopment/reuse plan; the redevelopment/reuse plan is viable and is in the best interest of the public; and the property is being used in accordance with the terms of the conveyance and applicable statutes and regulations.

Annual Estimated Burden Hours: 768 hours.

ADDRESSES: Send comments to the Office of Information and Regulatory Affairs, Office of Management and Budget, 725 17th Street, NW., Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: November 21, 2003.
Joel C. Richard,
Secretary, Maritime Administration.

[FR Doc. 03-29619 Filed 11-26-03; 8:45 am]

BILLING CODE 4910-81-P